DEPARTMENT OF TRANSPORTATION

Federal Aviation Administration

14 CFR Part 39

[Docket No. FAA-2009-1146; Directorate Identifier 2008-SW-38-AD; Amendment 39-16184; AD 2010-03-01]

RIN 2120-AA64

Airworthiness Directives; Eurocopter France Model AS332L1, AS332L2, and EC225LP Helicopters

AGENCY: Federal Aviation Administration (FAA), Department of Transportation (DOT).

ACTION: Final rule; request for comments.

SUMMARY: We are adopting a new airworthiness directive (AD) for the specified Eurocopter France (ECF) model helicopters. This AD results from mandatory continuing airworthiness information (MCAI) issued by the European Aviation Safety Agency (EASA), which is the Technical Agent for the Member States of the European Community. The MCAI states: “Recently, a report was received concerning the discovery of fragments of a plastic blanking plug (fitted to the harness belt buckle 5th attachment point) inside a seat harness belt buckle. Over time, this blanking plug hardens and becomes brittle. This condition, if not corrected, can lead to failure of the plug and fragments being caught inside the buckle, causing interference and preventing the belt from being released during an emergency evacuation of the aircraft.” This AD requires actions that are intended to address this unsafe condition.

DATES: This AD becomes effective on February 12, 2010.

The incorporation by reference of certain publications is approved by the Director of the Federal Register as of February 12, 2010.

We must receive comments on this AD by March 29, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: George Schwab, Aviation Safety Engineer, FAA, Rotorcraft Directorate, Safety Management Group, Fort Worth, Texas 76137, telephone (817) 222-5114, fax (817) 222-5961.

SUPPLEMENTARY INFORMATION:

Discussion

EASA, which is the Technical Agent for the Member States of the European Community, has issued EASA AD No. 2008-0075, dated April 22, 2008, to correct an unsafe condition for the ECF Model AS332L1, AS332L2, and EC225LP helicopters. EASA received a report concerning the discovery of fragments of a plastic blanking plug (fitted to the harness belt buckle 5th attachment point) inside a seat harness belt buckle. Over time, this blanking plug hardens, becomes brittle, and starts to deteriorate. This condition, if not corrected, can lead to fragments of the plug being caught inside the buckle, preventing the belt from releasing during an emergency evacuation of the aircraft.

You may obtain further information by examining the MCAI and any related service information in the AD docket.

Related Service Information

ECF has issued Emergency Alert Service Bulletin No. 01.00.72 for the Model AS332L1 and L2 helicopters and No. 04A003 for the Model EC225LP helicopters, both dated April 15, 2008. The seat buckles installed on the specified helicopters have five attachment points, and the seat harness belts have four attachment points only. Therefore, the 5th belt buckle attachment point is blanked using a plastic blanking plug. These plastic blanking plugs harden and become brittle over time. Mishandling of the buckle can cause the blanking plug to fail and fragments may be caught inside the buckle. Any fragments inside the buckle can lead to interference and may prevent the buckle from releasing the belts. The service information specifies removing all seat harness belt buckle blanking plugs, part number (P/N) 332V85134620 or P/N 332V85134621. The actions described in the MCAI are intended to correct the same unsafe condition as that identified in the service information.

FAA's Evaluation and Unsafe Condition Determination

These products have been approved by the aviation authority of France and are approved for operation in the United States. Pursuant to our bilateral agreement with France, they have notified us of the unsafe condition described in the MCAI. We are issuing this AD because we evaluated all information provided by EASA and determined the unsafe condition exists and is likely to exist or develop on other helicopters of these same type designs.

Differences Between This AD and the MCAI AD

This AD does not require you to return the parts to the manufacturer. Also, we refer to the compliance time as 30 days rather than 1 month.

Costs of Compliance

We estimate that this AD will affect about 6 helicopters of U.S. registry. We also estimate that it will take about .4 work-hour per helicopter to inspect for a failed blanking plug and replace the belt buckle with an airworthy belt buckle if the plug has failed. The average labor rate is $80 per work-hour. Required parts will cost about $250 per belt buckle. Based on these figures, we estimate the cost of this AD on U.S. operators will be $1,692, assuming 1 belt buckle per helicopter is replaced.

FAA's Determination of the Effective Date

An unsafe condition exists that requires the immediate adoption of this AD. We find that the risk to the flying public justifies waiving notice and comment prior to adoption of this rule because this unsafe condition requires immediate adoption of this AD due to possible inability to release the seat belts from the seat harness belt buckle during an emergency evacuation of the helicopter. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-1146; Directorate Identifier 2008-SW-38-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-03-01 Eurocopter France: Amendment 39-16184. Docket No. FAA-2009-1146; Directorate Identifier 2008-SW-38-AD.

Effective Date

(a) This airworthiness directive (AD) becomes effective on February 12, 2010.

Other Affected ADs

(b) None.

Applicability

(c) This AD applies to Model AS332L1, AS332L2, and EC225LP helicopters with the following seat harnesses, fitted with blanking plugs, part number (P/N) 332V85134620 or P/N 332V85134621, except seat harnesses modified by Eurocopter MOD 332V080169, installed, certificated in any category:

Harness manufacturer | Seat harness P/N
Schroth | P/N 1-10-725203.
| P/N 1-10-P65203.
| On Fisher Harmony single seats, P/N 03140000011X205 (Eurocopter P/N 704A41210112).
| On Fisher Harmony two-seat benches, P/N 03150000011XX205 (Eurocopter P/N 704A41210113).
AM-SAFE | P/N 503583-407-2251.
| P/N 503583-408-2251.
| On Sicma single seats with the following P/Ns:
| P/N 17911-02-00 (Eurocopter P/N 704A41210102).
| P/N 17911-03-00 (Eurocopter P/N 704A41210105).
| P/N 17912-02-00 (Eurocopter P/N 704A41210103).
| P/N 17912-03-00 (Eurocopter P/N 704A41210106).
| On Sicma two-seat benches with the following P/Ns:
| P/N 17920-02-00 (Eurocopter P/N 704A41210104).
| P/N 17920-03-00 (Eurocopter P/N 704A41210107).
| P/N 504729-401-2251 on rear bench seats (all P/Ns).

Note: Embodiment of MOD 332V080169 can be checked visually by verifying that no blanking plug is fitted on the 5th attachment point of the buckle plus verifying that aircraft records indicate the blanking plug has been removed by following MOD 332V080169.

Reason

(d) The mandatory continuing airworthiness information (MCAI) states: “Recently, a report was received concerning the discovery of fragments of a plastic blanking plug (fitted to the harness belt buckle 5th attachment point) inside a seat harness belt buckle. Over time, this blanking plug hardens and becomes brittle. This condition, if not corrected, can lead to failure of the plug and fragments being caught inside the buckle, causing interference and preventing the belt from being released during an emergency evacuation of the aircraft.”

Actions and Compliance

(e) Required as indicated, unless accomplished previously, do the following:

(1) Within 30 days, pry out the blanking plug from each seat harness belt buckle.

(2) If the removed blanking plug has deteriorated (fragmented), before further flight, replace the belt buckle with an airworthy belt buckle without a plastic blanking plug. Do this replacement as depicted in Figures 7 and 8 for the “AM-SAFE” belt buckle and Figure 9 for the “SCHROTH” belt buckle of Eurocopter Emergency Alert Service Bulletin (ASB) No. 01.00.72 for the Model AS332L1 and L2 and ASB No. 04A003 for the Model EC225LP helicopters, both dated April 15, 2008. To replace a belt buckle, follow the Accomplishment Instructions, paragraph 2.B.2.b. of ASB 01.00.72 or ASB 04A003, both dated April 15, 2008, as applicable to your model helicopter, except this AD does not require you to return the harness belt buckle to the manufacturer.

(i) Conduct a buckle fastening release test to ensure the buckle works correctly.

(ii) Inspect the positioning of the seat harness belt on the buckle to assure that it is as depicted in Figure 6 of the ASB, as applicable to your model helicopter.

(3) If the blanking plug has not deteriorated, return the buckle to service without the blanking plug.

Note: This modifies the buckle to be airworthy without the blanking plug.

Differences Between This AD and the MCAI AD

(f) This AD does not require you to return the harness belt buckle to the manufacturer. Also, we use a compliance time of 30 days rather than 1 month.

Other Information

(g) The Manager, Safety Management Group, FAA, ATTN: George Schwab, Aviation Safety Engineer, Rotorcraft Directorate, Fort Worth, Texas 76137, telephone (817) 222-5114, fax (817) 222-5961 has the authority to approve AMOCs for this AD, if requested, using the procedures found in 14 CFR 39.19.

Related Information

(h) European Aviation Safety Agency (EASA) AD No. 2008-0075, dated April 22, 2008, contains related information.

Joint Aircraft System/Component (JASC) Code

(i) JASC Code 2500: Cabin Equipment & Furnishings.

Material Incorporated by Reference

(j) You must use the specified portions of Eurocopter Emergency Alert Service Bulletin No. 01.00.72 for the Model AS332L1 and L2 helicopters and No. 04A003 for the Model EC225LP helicopters, both dated April 15, 2008, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (972) 641-3460, fax (972) 641-3527, or at http://www.eurocopter.com.

(3) You may review copies at the FAA, Rotorcraft Directorate, Fort Worth, Texas 76137; or at the National Archives and Records Administration (NARA). For information on the availability of this material at NARA, call (202) 741-6030, or go to: http://www.archives.gov/federal-register/cfr/ibr-locations.html.

Issued in Fort Worth, Texas, on November 24, 2009.
Lance T. Gant,
Acting Manager, Rotorcraft Directorate, Aircraft Certification Service.

[FR Doc. 2010-1515 Filed 1-27-10; 8:45 am]

BILLING CODE 4910-13-P